DEPARTMENT OF ENERGY

Federal Energy Regulatory Commission

Combined Notice of Filings #1

Take notice that the Commission received the following electric rate filings:

Docket Numbers: ER10-2633-021; ER10-2570-021; ER10-2717-021; ER10-3140-020; ER13-55-011.

Applicants: Birchwood Power Partners, L.P., Shady Hills Power Company, L.L.C., EFS Parlin Holdings, LLC, Inland Empire Energy Center, LLC, Homer City Generation, L.P.

Description: Notice of Non-Material Change in Status of the GE Companies.

Filed Date: 10/5/15.

Accession Number: 20151005-5227.

Comments Due: 5 p.m. ET 10/26/15.

Docket Numbers: ER10-2984-021.

Applicants: Merrill Lynch Commodities, Inc.

Description: Notice of Non-Material Change in Status of Merrill Lynch Commodities, Inc.

Filed Date: 10/5/15.

Accession Number: 20151005-5246.

Comments Due: 5 p.m. ET 10/26/15.

Docket Numbers: ER15-861-005.

Applicants: California Independent System Operator Corporation.

Description: California Independent System Operator Corporation submits Readiness Certification for Nevada Power Company and Sierra Pacific Power Company's Participation in the Energy Imbalance Market.

Filed Date: 10/1/15.

Accession Number: 20151001-5434.

Comments Due: 5 p.m. ET 10/22/15.

Docket Numbers: ER15-1065-001; ER15-1676-001.

Applicants: Balko Wind, LLC, Balko Wind Transmission, LLC.

Description: Notice of Change in Status of the Balko MBR Companies.

Filed Date: 10/5/15.

Accession Number: 20151005-5120.

Comments Due: 5 p.m. ET 10/26/15.

Docket Numbers: ER15-2693-001.

Applicants: Baltimore Power Company LLC.

Description: Tariff Amendment: Amendment to new to be effective 10/30/2015.

Filed Date: 10/5/15.

Accession Number: 20151005-5231.

Comments Due: 5 p.m. ET 10/26/15.

Docket Numbers: ER16-16-000.

Applicants: Midcontinent Independent System Operator, Inc., MidAmerican Energy Company.

Description: Section 205(d) Rate Filing: 2015-10-05_MidAmerican ADIT Filing to be effective 1/1/2016.

Filed Date: 10/5/15.

Accession Number: 20151005-5137.

Comments Due: 5 p.m. ET 10/26/15.

Docket Numbers: ER16-17-000.

Applicants: Midcontinent Independent System Operator, Inc., Union Electric Company.

Description: Section 205(d) Rate Filing: 2015-10-05_SA 2850 ATXI-UEC Construction Agreement (Maywood) to be effective 10/5/2015.

Filed Date: 10/5/15.

Accession Number: 20151005-5150.

Comments Due: 5 p.m. ET 10/26/15.

Docket Numbers: ER16-18-000.

Applicants: Midcontinent Independent System Operator, Inc.

Description: Section 205(d) Rate Filing: 2015-10-05_WMU Attachment O Filing to be effective 1/1/2016.

Filed Date: 10/5/15.

Accession Number: 20151005-5163.

Comments Due: 5 p.m. ET 10/26/15.

Docket Numbers: ER16-19-000.

Applicants: PJM Interconnection, L.L.C.

Description: Section 205(d) Rate Filing: Second Revised Interconnection Service Agreement No. 3402, Queue No. Y2-105 to be effective 9/4/2015.

Filed Date: 10/5/15.

Accession Number: 20151005-5251.

Comments Due: 5 p.m. ET 10/26/15.

Docket Numbers: ER16-20-000.

Applicants: PJM Interconnection, L.L.C.

Description: Section 205(d) Rate Filing: Original Service Agreement No. 4267; Queue Z1-091 (WMPA) to be effective 9/21/2015.

Filed Date: 10/5/15.

Accession Number: 20151005-5257.

Comments Due: 5 p.m. ET 10/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2015.
Nathaniel J. Davis, Sr.,
Deputy Secretary.

[FR Doc. 2015-25912 Filed 10-9-15; 8:45 am]

BILLING CODE 6717-01-P